DEPARTMENT OF THE INTERIOR

National Park Service

[NPS-WASO-NAGPRA-NPS0026290; PPWOCRADN0-PCU00RP14.R50000]

Notice of Inventory Completion: U.S. Department of Agriculture, Forest Service, Boise National Forest, Boise, ID

AGENCY: National Park Service, Interior.

ACTION: Notice.

SUMMARY: The U.S. Department of Agriculture (USDA), Forest Service, Boise National Forest, has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Boise National Forest. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Boise National Forest at the address in this notice by October 10, 2018.

ADDRESSES: Cecilia Romero Seesholtz, Boise National Forest, 1249 South Vinnell Way, Suite 200, Boise, ID 83709, telephone (208) 373-4102, email cseesholtz@fs.fed.us.

SUPPLEMENTARY INFORMATION: Notice is here given in accordance with the Native American Graves Protection and Repatriation Act (NAGPRA), 25 U.S.C. 3003, of the completion of an inventory of human remains and associated funerary objects under the control of the USDA, Boise National Forest, Boise, ID. The human remains and associated funerary objects were removed from Elmore County, ID.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Boise National Forest professional staff in consultation with representatives of the Shoshone-Bannock Tribes of the Fort Hall Reservation and the Shoshone-Paiute Tribes of the Duck Valley Reservation, Nevada.

History and Description of the Remains

In 1989, human remains representing, at minimum, one adult individual of indeterminate sex were removed from site 10-EL-01, in Elmore County, ID. The human remains were removed during a permitted archeological excavation of the site, but were not identified until 2012, when the Boise National Forest initiated a comprehensive analysis of the site's extensive faunal assemblage. The analysis was performed by Susanne Miller, Faunal Analysis & CRM Services, and completed in 2017. The human remains are extremely fragmentary and are evidence of extensive looting that occurred at the site. Boise National Forest records dating to the 1950s reference the “churned” nature of the site, which the 1989 excavation confirmed. Stratigraphic mixing of chronologically sensitive point types, the presence of historic artifacts (such as tobacco tins and modern trash), and the results of sediment and radiocarbon analyses document an extremely disturbed site.

The human remains primarily consist of bones from the upper and lower torso areas—scapula, ribs, and vertebrae. A patella, a few elements of the hand and foot, and two teeth were identified. The general “adult” estimation of age is based on the degree of epiphyseal fusion of some of the surviving elements, specifically the scapula, proximal ribs, and features of the vertebral centra. No known individuals were identified. The 662 associated funerary objects are: Two abraders; 18 bone awls and awl fragments; seven bone and shell beads; eight bone tubes; 34 modified bones (including incised, polished, and shaped specimens); 13 biface and biface fragments; 20 cores; four drills, 59 hammerstones, seven pestles; 11 knives; 21 modified flakes; one pipe fragment, one polished bobcat canine, 82 pottery sherds; 361 projectile points and point fragments; 11 scrapers; and two unifaces.

The radiocarbon dates and projectile point chronology established at 10-EL-01 indicate that Native Americans occupied the site, probably on an intermittent and seasonal basis, over a long period of time beginning in the late Early Archaic Period (8,000-5,000 B.P.) and continuing through the Protohistoric Period (A.D. 1700-1805) and possibly even into the Contact Period (1805-1870). Most of the radiocarbon dates and point types date to the Late Archaic Period (2,000-150 B.P.). The historic inhabitants of southern Idaho include the Northern Shoshone and Northern Paiute, which are distinguished primarily on the basis of language (Murphy and Murphy 1986:284). Economic lifeways and socio-political organization were similar for the Shoshone (including the Boise, Bruneau, and Weiser subgroups) and the Northern Paiute, both of which occupied southwestern Idaho at the time of historic contact (Murphy and Murphy 1960, 1986; Steward 1938). The Northern Paiute comprised the Payette, Weiser, and Bannock subgroups, with the latter defining a group of mounted hunters who moved eastward to the Fort Hall area of Idaho during the eighteenth century (Liljeblad 1957:81). The primary ethnographic sources for southern Idaho are Murphy and Murphy (1960), Steward (1938, 1941), and Steward and Wheeler-Voegelin (1974).

The cultural assemblage from 10-EL-01, when viewed in the context of the geographical, archeological, historical, and ethnographic records for southern Idaho, reasonably points to a shared group identity with the Northern Shoshone and Northern Paiute peoples who occupied the Snake River Plain. The preponderance of the evidence indicates that the human remains and associated funerary objects from 10-EL-01 are culturally affiliated with present-day Shoshone-Bannock Tribes of the Fort Hall Reservation and Shoshone-Paiute Tribes of the Duck Valley Reservation, Nevada.

Determinations Made by the USDA Forest Service, Boise National Forest

Officials of the USDA Forest Service, Boise National Forest have determined that:

• Pursuant to 25 U.S.C. 3001(9), the human remains described in this notice represent the physical remains of one individual of Native American ancestry.

• Pursuant to 25 U.S.C. 3001(3)(A), the 662 objects described in this notice are reasonably believed to have been placed with or near individual human remains at the time of death or later as part of the death rite or ceremony.

• Pursuant to 25 U.S.C. 3001(2), there is a relationship of shared group identity that can be reasonably traced between the Native American human remains and associated funerary objects and the Shoshone-Bannock Tribes of the Fort Hall Reservation and the Shoshone-Paiute Tribes of the Duck Valley Reservation, Nevada.

Additional Requestors and Disposition

Lineal descendants or representatives of any Indian Tribe or Native Hawaiian organization not identified in this notice that wish to request transfer of control of these human remains and associated funerary objects should submit a written request with information in support of the request to Cecilia Romero Seesholtz, Boise National Forest, 1249 South Vinnell Way, Suite 200, Boise, ID 83709, telephone (208) 373-4102, email cseesholtz@fs.fed.us, by October 10, 2018. After that date, if no additional requestors have come forward, transfer of control of the human remains and associated funerary objects to the Shoshone-Bannock Tribes of the Fort Hall Reservation and the Shoshone-Paiute Tribes of the Duck Valley Reservation, Nevada may proceed.

The Boise National Forest is responsible for notifying the Shoshone-Bannock Tribes of the Fort Hall Reservation and the Shoshone-Paiute Tribes of the Duck Valley Reservation, Nevada that this notice has been published.

Dated: August 20, 2018.
Melanie O'Brien,
Manager, National NAGPRA Program.

[FR Doc. 2018-19528 Filed 9-7-18; 8:45 am]

BILLING CODE 4312-52-P